FEDERAL COMMUNICATIONS COMMISSION

47 CFR Part 64

[CG Docket Nos. 11-116 and 09-158; CC Docket No. 98-170; FCC 12-42; DA 12-1039]

Empowering Consumers To Prevent and Detect Billing for Unauthorized Charges (“Cramming”); Consumer Information and Disclosure; Truth-in-Billing and Billing Format

AGENCY: Federal Communications Commission.

ACTION: Proposed rule; extension of reply comment period.

SUMMARY: In this document, the Commission extends the deadline for filing reply comments on the Commission's Further Notice of Proposed Rulemaking (FNPRM) proposing additional rules to help consumers prevent and detect the placement of unauthorized charges on their telephone bills, an unlawful and fraudulent practice commonly referred to as cramming. The extension will facilitate the development of a full record given the importance of the issues in this proceeding.

DATES: Reply comments are due on or before July 20, 2012.

ADDRESSES: You may submit reply comments, identified by CG Docket No. 11-116 by any of the following methods:

• Federal Communications Commission's Web site: http://fjallfoss.fcc.gov/ecfs2/. Follow the instructions for submitting comments.

• People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Melissa Conway, FCC, Consumer and Governmental Affairs Bureau, Consumer Policy Division, at (202) 418-2887 (voice), or email Melissa.Conway@fcc.gov.

SUPPLEMENTARY INFORMATION: This is a synopsis of the Commission's Order, document DA 12-1039, adopted on June 29, 2012, and released on June 29, 2012, in CG Docket Nos. 11-116 and 09-158, and CC Docket No. 98-170, which extends the reply comment filing deadline established in the FNPRM, FCC 12-42, published at 77 FR 30972, May 24, 2012. The full text of document DA 12-1039 and copies of any subsequently filed documents in this matter will be available for public inspection and copying during regular business hours at the FCC Reference Information Center, Portals II, 445 12th Street SW., Room CY-A257, Washington, DC 20554. They may also be purchased from the Commission's duplicating contractor, Best Copy and Printing, Inc., Portals II, 445 12th Street SW., Room CY-B402, Washington, DC 20554, telephone: (202) 488-5300, fax: (202) 488-5563, or Internet: www.bcpiweb.com. The full text of document DA 12-1039 may also be downloaded at: http://transition.fcc.gov/Daily_Releases/Daily_Business/2012/db0629/DA-12-1039A1.doc. To request materials in accessible formats for people with disabilities (Braille, large print, electronic files, audio format), send an email to fcc504@fcc.gov or call the Consumer and Governmental Affairs Bureau at 202-418-0530 (voice), 202-418-0432 (TTY).

Pursuant to 1.415 and 1.419 of the Commission's rules, 47 CFR 1.415 and 1.419, interested parties may file reply comments on or before the dates indicated in the DATES section of this document. Comments may be filed using: (1) The Commission's Electronic Comment Filing System (ECFS); or (2) by filing paper copies. All filings should reference the docket number of this proceeding, CG Docket No. 11-116.

• Electronic Filers: Comments may be filed electronically using the Internet by accessing the ECFS: http://fjallfoss.fcc.gov/ecfs2/.

• Paper Filers: Parties who choose to file by paper must file an original and one copy of each filing. If more than one docket or rulemaking appears in the caption of this proceeding, filers must submit two additional copies for each additional docket or rulemaking number.

Filings can be sent by hand or messenger delivery, by commercial overnight courier, or by first class or overnight U.S. Postal Service mail. All filings must be addressed to the Commission's Secretary, Office of the Secretary, Federal Communications Commission.

• All hand-delivered or messenger-delivered paper filings for the Commission's Secretary must be delivered to FCC Headquarters at 445 12th Street SW., Room TW-A325, Washington, DC 20554. The filing hours are 8:00 a.m. to 7:00 p.m. All hand deliveries must be held together with rubber bands or fasteners. Any envelopes or boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington, DC 20554.

• In addition, parties must serve one copy of each pleading with the Commission's duplicating contractor, Best Copy and Printing, Inc., 445 12th Street SW., Room CY-B402, Washington, DC 20554, or via email to fcc@bcpiweb.com.

Pursuant to 47 CFR 1.1200 et seq., this matter shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must: (1) List all persons attending or otherwise participating in the meeting at which the ex parte presentation was made; and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with section 1.1206(b) of the Commission's rules. In proceedings governed by section 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Initial Paperwork Reduction Act of 1995

In the Commission's FNPRM, FCC 12-42, it seeks comment on potential new information collection requirements. If the Commission adopts any new information collection requirement, the Commission will publish another notice in the Federal Register inviting the public to comment on the requirements, as required by the Paperwork Reduction Act (PRA) of 1995, Public Law 104-13 (44 U.S.C. 3501-3520). In addition, pursuant to the Small Business Paperwork Relief Act of 2002, in the Commission's FNPRM, it seeks comment on how it might “further reduce the information collection burden for small business concerns with fewer than 25 employees.” The Commission's document DA 12-1039 does not contain new or modified information collection requirements subject to the PRA, Public Law 104-13. Therefore, it does not contain any new or modified information collection burden for small business concerns with few than 25 employees, pursuant to the Small Business Paperwork Relief Act of 2002, Public Law 107-198, see 44 U.S.C. 3506(c)(4).

Synopsis

Background

The Commission's document FCC 12-42 established a comment deadline of June 25, 2012, and a reply comment deadline of July 9, 2012. On June 26, 2012, the National Association of State Utility Consumer Advocates (NASUCA) requested that the reply comment deadline be extended by 30 days because of the volume of initial comments, the Fourth of July holiday, and the occurrence of NASUCA's midyear meeting during the reply comment period. The Commission grants NASUCA's request in part.

As stated in § 1.46(a) of the Commission's rules, 47 CFR 1.46(a), the Commission's policy is that extensions of time are not routinely granted. In the interest of encouraging development of a full record, the Commission believes that an extension of time is in the public interest and that an 11-day extension will provide adequate time for development of reply comments. The Commission grants an 11-day extension of the reply comment deadline.

Ordering Clause

Pursuant to sections 4(i) and 4(j) of the Communications Act of 1934, as amended, 47 U.S.C. 154(i), (j), and §§ 0.141, 0.361, and 1.46 of the Commission's rules, 47 CFR 0.141, 0.361, 1.46, that the Motion for Extension of Time to File Reply Comments filed by the National Association of State Utility Consumer Advocates is granted to the extent indicated herein and is otherwise denied, and the deadline for filing reply comments in response to document FCC 12-42 is extended to July 20, 2012.

Federal Communications Commission.
Kris Anne Monteith,
Acting Chief, Consumer and Governmental Affairs Bureau.

[FR Doc. 2012-17403 Filed 7-16-12; 8:45 am]

BILLING CODE 6712-01-P